DEPARTMENT OF ENERGY

Federal Energy Regulatory Commission

[Project No. 13560-000]

Sierra Energy Company; Notice of Preliminary Permit Application Accepted for Filing and Soliciting Comments, Motions To Intervene, and Competing Applications

September 10, 2009.

On July 23, 2009, and revised on August 27, 2009, Sierra Energy Company filed an application for a preliminary permit, pursuant to section 4(f) of the Federal Power Act, proposing to study the feasibility of the North Unit Diversion Dam Project, located on the Deschutes River in Deschutes County, Oregon. The sole purpose of a preliminary permit, if issued, is to grant the permit holder priority to file a license application during the permit term. A preliminary permit does not authorize the permit holder to perform any land disturbing activities or otherwise enter upon lands or waters owned by others without the owners' express permission.

The proposed project would utilize the existing North Unit Diversion Dam; and would consist of the following new facilities: (1) A diversion structure approximately 100-foot-long, 15-foot-wide, and 6-foot-deep; (2) an 8- to 10-foot-diameter, 150-foot-long penstock; (3) a powerhouse containing two generating units having an installed capacity of 1.8 megawatts; (4) a 500-foot-long, 21-kilovolt transmission line; and (5) appurtenant facilities. The proposed project would have an average annual generation of 7.2 gigawatt-hours.

Applicant Contact: Bradley Reeves, Sierra Energy Company, P.O. Box 4313, Auburn, CA 95604; phone: (530) 367-4156.

FERC Contact: Gina Krump, (202) 502-6704, gina.krump@ferc.gov.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13560) in the docket number field to access the document. For assistance, contact FERC Online Support.

Kimberly D. Bose,
Secretary.

[FR Doc. E9-22470 Filed 9-17-09; 8:45 am]

BILLING CODE 6717-01-P